NATIONAL FOUNDATION ON THE ARTS AND THE HUMANITIES

National Endowment for the Arts; Proposed Collection; Comment Request

AGENCY: National Endowment for the Arts.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents can be properly assessed. Currently, the NEA is soliciting comments concerning the proposed information collection on arts participation in the U.S.: Clearance Request for NEA 2018-2019 Annual Arts Basic Survey. Copies of this ICR, with applicable supporting documentation, may be obtained by visiting www.Reginfo.gov.

DATES: Comments should be sent by July 3, 2017.

ADDRESSES: You may send comments concerning this Notice to the Office of Information and Regulatory Affairs, Attn: OMB Desk Officer for the National Endowment for the Arts, Office of Management and Budget, Room 10235, Washington, DC 20503, 202/395-7316.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: 2018-2019 Annual Arts Basic Survey.

OMB Number: New.

Frequency: Annually, in years the Survey of Public Participation in the Arts is not conducted.

Affected Public: American adults.

Estimated Number of Respondents: 36,000.

Estimated time per respondent: 4.0 minutes.

Total burden hours: 2,000 hours.

Total annualized capital/startup costs: 0.

Total annual costs (operating/maintaining systems or purchasing services): 0.

Description: This request is for clearance of the 2018 and 2019 Annual Arts Basic Surveys (AABS). These surveys will be conducted by the U.S. Census Bureau as a supplement to the Bureau of Labor Statistic's Current Population Survey. The AABS will be conducted in February 2018 and February 2019 and are expected to conducted annually thereafter in years that the National Endowment for the Arts' (NEA) Survey of Public Participation in the Arts (SPPA) is not conducted. One of the strengths of the AABS surveys is that they will both complement and supplement the information collected in the SPPA. The SPPA is the field's premiere repeated cross-sectional survey of individual attendance and involvement in arts and cultural activity, and is conducted approximately every five years. The AABS questionnaires are much shorter than the SPPA, consisting of 12 to 14 questions that will be used to track arts participation over time. As with the SPPA, the AABS data will be circulated to interested researchers and will be the basis for a range of NEA reports and independent research publications. Reports on these data will be made publicly available on the NEA's Web site. The AABS will provide annual primary knowledge on the extent and nature of participation in the arts in the United States. These data will also be used by the NEA as a contextual measure for one of the strategic goals identified in its FY 2014-FY 2018 strategic plan.

Dated: May 30, 2017.
Kathy Daum,
Director, Administrative Services, National Endowment for the Arts.

[FR Doc. 2017-11405 Filed 6-1-17; 8:45 am]

BILLING CODE 7537-01-P